SMALL BUSINESS ADMINISTRATION

[Disaster Declaration # 10142]

Mississippi Disaster Number MS-00002

AGENCY: Small Business Administration.

ACTION: Amendment 1.

SUMMARY: This is an amendment of the Presidential declaration of a major disaster for Public Assistance Only for the State of Mississippi (FEMA-1594-DR), dated 07/10/2005.

Incident: Hurricane Dennis.

Incident Period: 07/10/2005 through 07/15/2005.

Effective Date: 07/15/2005.

Physical Loan Application Deadline Date: 09/08/2005.

ADDRESSES: Submit completed loan applications to: Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for Private Non-Profit organizations in the State of Mississippi, dated 07/10/2005, is hereby amended to establish the incident period for this disaster as beginning 07/10/2005 and continuing through 07/15/2005.

All other information in the original declaration remains unchanged.

(Catalog of Federal Domestic Assistance Number 59008)
Herbert L. Mitchell,
Associate Administrator for Disaster Assistance.

[FR Doc. 05-16349 Filed 8-17-05; 8:45 am]

BILLING CODE 8025-01-P